DEPARTMENT OF ENERGY

Federal Energy Regulatory Commission

[Docket No. CP00-80-000]

Glacier Gas Company, North American Resources Company, Energy West Resources, Inc; Notice of Application

February 16, 2000.

Take notice that on February 9, 2000, Glacier Gas Company (Glacier), 40 East Broadway, Butte, Montana 59701, North America Resources Company (NARCO), 16 East Granite, Butte, Montana 59701, and Energy West Resources, Inc. (Energy Resources), No. 1, First Ave. South, Great Falls, Montana 59403, filed in Docket No. CP00-80-000 an application pursuant to Section 7(b) of the Natural Gas Act (NGA) for authorization to abandon Glaciers existing interstate pipeline facilities by sale to NARCO and Energy Resources. The applicants further request a determination that the facilities will be nonjurisdictional gathering after the transfer. The facilities are located in Wyoming and Montana, all as more fully set forth in the application which is on file with the Commission and open to public inspection. The application may be viewed on the web at www.ferc.fed.us/online/rims.htm. Call (202) 208-2222 for assistance.

The applicants seek approval and nonjurisdictional determination to permit: (1) Glacier to abandon its certificate responsibilities; (2) NARCO to acquire and operate on a nonjurisdictional basis Glacier's production and other assets located in the Heart Mountain Field; and (3) Energy Resources to acquire and operate as a nonjurisdictional gathering line (a) Glacier's remaining facilities, (b) additional facilities to be purchased from the Montana Power Company and (c) additional facilities to be constructed by Energy Resources.

Any questions regarding this application should be directed to Douglas M. Canter, Esq., McCarthy, Sweeney & Harkaway, P.C., 1750 Pennsylvania Avenue, NW, Washington, DC 20006 at (202) 393-5710.

Any person desiring to be heard or to make any protest with reference to said application should on or before March 8, 2000, file with the Federal Energy Regulatory Commission (888 First Street, NE, Washington, DC 20426) a motion to intervene or a protest in accordance with the requirements of the Commission's Rules of Practice and Procedure (18 CFR 385.211) and the Regulations under the Natural Gas Act (18 CFR 157.10). All protests filed with the Commission will be considered by it in determining the appropriate action to be taken but will not serve to make the protestants parties to the proceeding. Any person wishing to become a party to a proceeding or to participate as a party in any hearing therein must file a motion to intervene in accordance with the Commission's Rules.

Take further notice that, pursuant to the authority contained in and subject to the jurisdiction conferred upon the Federal Energy Regulatory Commission by Sections 7 and 15 of the Natural Gas Act and the Commission's Rules of Practice and Procedure, a hearing will be held without further notice before the Commission or its designee on this application if no motion to intervene is filed within the time required herein, if the Commission on its own review of the matter finds that permission and approval for the proposed abandonment are required by the public convenience and necessity. If a motion for leave to intervene is timely filed, or if the Commission on its own motion believes that a formal hearing is required, further notice of such hearing will be duly given.

Under the procedure herein provided for, unless otherwise advised, it will be unnecessary for Glacier, NARCO, or Energy Resources to appear or be represented at the hearing.

David P. Boergers,
Secretary.

[FR Doc. 00-4183 Filed 2-22-00; 8:45 am]

BILLING CODE 6717-01-M